DEPARTMENT OF THE INTERIOR

Bureau of Reclamation

Intent to Solicit Public Comments on the Adoption of an Interim 602(a) Storage Guideline for Management of the Colorado River and to Initiate a National Environmental Policy Act (NEPA) Process

AGENCY: Bureau of Reclamation, Interior.

ACTION: Notice to solicit public comments and initiation of the NEPA process.

SUMMARY: The Secretary of the Department of the Interior (Secretary), acting through the Bureau of Reclamation (Reclamation), is considering the adoption of a specific interim guideline that will assist the Secretary in making a determination of the quantity of water considered necessary as of September 30 of each year, as required by article II (1) of the Criteria for Coordinated Long-Range Operation of Colorado River Reservoirs Pursuant to the Colorado River Basin Project Act of September 30, 1968 (Long-Range Operating Criteria).

DATES: To be most useful, we must receive all comments at the address given below on or before March 14, 2003.

ADDRESSES: You may submit comments to Tom Ryan, Bureau of Reclamation, Upper Colorado Regional Office, 125 South State Street, Salt Lake City, Utah 84138; faxogram (801) 524-5499; e-mail: tryan@uc.usbr.gov.

SUPPLEMENTARY INFORMATION: Each year, the Secretary establishes an Annual Operating Plan (AOP) for the Colorado River reservoirs. The AOP describes how Reclamation will manage the reservoirs over a 12-month period, consistent with the Long-Range Operating Criteria. Pursuant to applicable Federal law, Reclamation consults annually with the Colorado River Basin States, Indian tribes, and others interested parties in the development of the AOP. Further, as part of the AOP, the Secretary makes an annual determination under the Long-Range Operating Criteria regarding the quantity of water considered necessary as of September 30 of each year to be in storage as required by section 602(a)(3) of the Colorado River Basin Project Act (602(a) Storage). This determination is important because when projected storage in the Upper Basin reservoirs is greater than 602(a) Storage, releases from Lake Powell are made according to article II (3) of the Long-Range Operating Criteria and section 602(a)(3). These releases are commonly made to maintain, as nearly as practicable, active storage in Lake Mead equal to the active storage in Lake Powell. These releases are commonly referred to as “equalization” releases. When projected storage is less than 602(a) Storage, such equalization releases from Lake Powell are not made.

In July 2000, Reclamation issued a draft environmental impact statement (DEIS) on the proposed adoption of specific criteria under which surplus water conditions may be determined in the Lower Colorado River Basin for 15 years. During the public comment period on the DEIS, the seven Colorado River Basin States submitted information to the Department of the Interior that contained a proposal on interim surplus criteria and a number of other related issues. This information was published in the Federal Register on August 8, 2000 (65 FR 48531-38). One component of the Colorado River Basin States' proposal is section V, “Determination of 602(a) Storage in Lake Powell During the Interim Period,” and reads as follows:

During the Interim Period, 602(a) storage requirements determined in accordance with article II (1) of the Criteria [Long-Range Operating Criteria] shall utilize a value of not less than 14.85 maf (elevation 3,630 feet) for Lake Powell (65 FR 48537).

In December 2000, Reclamation issued a final environmental impact statement (FEIS) on the proposed adoption of specific criteria under which surplus water conditions would be determined in the Lower Colorado River Basin through the year 2016. The preferred alternative in the FEIS was based in large part on the Colorado River Basin States' proposal, but as noted in the FEIS, the preferred alternative did not contain all of the specific elements of the Basin States' proposal.

On January 16, 2001, the Secretary signed the record of decision (ROD) for the Colorado River Interim Surplus Guidelines. The FEIS and the ROD did not consider or implement section V of the Colorado River Basin States' proposal (Basin States' proposed 602(a) Storage). Representatives of the Colorado River Basin States have expressed an interest in having the Basin States' proposed 602(a) Storage adopted by the Secretary, through the year 2016, in order to protect Upper Basin storage against the potential drawdown of Lake Mead storage that could occur due to dry hydrology and continued surplus deliveries from Lake Mead to the Lower Division States. The Colorado River Basin is now in its fourth consecutive year of drought.

Under these circumstances, the Secretary believes that it may be prudent to adopt the Basin States' proposed 602(a) Storage, or a reasonable alternative to it, as a guideline for making 602(a) Storage determinations during the period through 2016. As part of the process initiated by this notice, Reclamation will analyze the effects of the Basin States' proposed 602(a) Storage on the Colorado River system.

Reclamation will utilize a public process pursuant to NEPA during the analysis of the Basin States' proposed 602(a) Storage guideline. By this notice, Reclamation invites all interested parties, including the Colorado River Basin States, Indian tribes, water users, members of the general public, organizations, and agencies to present written comments concerning the Basin States' proposed 602(a) Storage and the issues and alternatives that they believe should be analyzed.

Our practice is to make comments, including names and home address of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

Dated: November 22, 2002.
Rick L. Gold,
Regional Director—Upper Colorado Region.

[FR Doc. 03-1887 Filed 1-27-03; 8:45 am]

BILLING CODE 4310-MN-P